DEPARTMENT OF JUSTICE

Antitrust Division

United States v. CBS Corporation, Infinity Broadcasting Corporation, and Outdoor Systems, Inc., No. 1:99-CV3212 (D.D.C. June 6, 1999); United States' Notice of Proposed Termination of Final Judgment

Notice is hereby given that the United States and CBS Corporation, Infinity Broadcasting Corporation, and Outdoor Systems, Inc. (collectively “CBS”), have entered a Stipulation to modify the Final Judgment entered by the United States Court for the District of Columbia on June 6, 2000. In this Stipulation filed with the Court, the United States has provisionally consented to modification of the Final Judgment, but has reserved the right to withdraw its consent pending receipt of the public comments.

On December 6, 1999, the United States filed the Complaint in this case alleging that the acquisition by Infinity Broadcasting Corporation and CBS Corporation (collectively “CBS”) of Outdoor Systems, Inc. (“OSI”) violated section 7 of the Clayton Act, as amended, 15 U.S.C. 18. The Complaint alleged that CBS and OSI were two of the largest out-of-home advertising companies in the United States; that the sale of out-of-home advertising constituted a relevant antitrust product market; and that the acquisition was likely to substantially reduce competition in three metropolitan areas: New York, New Orleans, and Phoenix.

The Final Judgment, which was entered by consent of the parties on June 6, 2000, ordered the divestiture of four separate groups of assets. To date, three of these divestitures have already been successfully accomplished; the fourth divestiture—the divestiture, at the Defendant's option, of either the New York City subway or bus advertising business—has not been completed, despite the efforts of the Defendants and a Court-appointed Trustee. The parties propose that the current Final Judgment be modified by substituting the Defendants' New York City telephone kiosk advertising business for the assets previously required to be divested.

The United States has filed a memorandum with the Court setting forth the reasons it believes modification of the Final Judgment would serve the public interests. Copies of the joint motion of the United States and CBS to establish procedures to modify the Final Judgment, the stipulation containing the United States' provisional consent to modification of the Final Judgment, the supporting memorandum, and all additional papers filed with the Court in connection with this motion are available for inspection at the Antitrust Documents Group of the Antitrust Division, U.S. Department of Justice, 325 7th Street, NW., Room 215 North, Liberty Place Building, Washington, DC 20530, and at the Office of the Clerk of the United States District Court for the District of Columbia, 333 Constitution Avenue, NW., Washington, DC 2001. Copies of these materials may be obtained from the Antitrust Division upon request and payment of the copying fee set by Department of Justice regulations.

Interested person may submit comments regarding the proposed modification of the Final Judgment to the United States. Such comments must be received by the Antitrust Division within sixty (60) days of the last publication of notices appearing in The Wall Street Journal and Advertising Age and will be filed with the Court by the United States. Comments should be addressed to J. Robert Kramer, II, Chief, Litigation II Section, Antitrust Division, U.S. Department of Justice, 1401 H Street, NW., Room 3000, Washington, DC 20530 (telephone: 202-307-0924). Comments may also be sent via electronic mail to Allen.Grunes@usdoj.gov or faxed to the attention of Allen Grunes at 202-514-7308.

Dorothy B. Fountain,
Deputy Director of Operations.

[FR Doc. 02-16923 Filed 7-5-02; 8:45 am]

BILLING CODE 4410-11-M